NATIONAL ARCHIVES AND RECORDS ADMINISTRATION

Office of Government Information Services

[NARA-2022-039]

Chief Freedom of Information Act Officers Council Meeting

AGENCY: Office of Government Information Services (OGIS), National Archives and Records Administration (NARA), and Office of Information Policy (OIP), Department of Justice (DOJ).

ACTION: Notice of meeting.

SUMMARY: We are announcing a meeting of the Chief Freedom of Information Act (FOIA) Officers Council, co-chaired by the Director of OGIS and the Director of OIP.

DATES: The meeting will be on Thursday, April 21, 2022, from 10:00 a.m. to 12:00 noon EST. Please register for the meeting no later than 11:59 p.m. EST on Tuesday, April 19, 2022 (registration information is detailed below).

ADDRESSES: The April 21, 2022, meeting will be a virtual meeting. We will send access instructions to those who register according to the instructions below.

FOR FURTHER INFORMATION CONTACT: Martha Murphy, by email at ogis@nara.gov with the subject line “Chief FOIA Officers Council,” or by telephone at 202.741.5770.

SUPPLEMENTARY INFORMATION: This meeting is open to the public in accordance with the Freedom of Information Act (5 U.S.C. 552(k)). Additional details about the meeting, including the agenda, will be available on OGIS's website at https://www.archives.gov/ogis/about-ogis/chief-foia-officers-council and OIP's website at https://www.justice.gov/oip/chief-foia-officers-council.

Procedures: This virtual meeting is open to the public. You must register through Eventbrite at https://www.eventbrite.com/e/chief-foia-officers-council-meeting-april-21-2022-tickets-311205432827 in advance if you wish to submit oral statements. You must include an email address so that we can provide you access information. We will also live-stream the meeting on the National Archives' YouTube channel at https://www.youtube.com/watch?v=1pgQqhwMU9I and include a captioning option. To request additional accommodations (e.g., a transcript), email ogis@nara.gov or call 202-741-5770. Members of the media who wish to register, those who are unable to register online, and those who require special accommodations, should contact Martha Murphy (contact information listed above).

Alina M. Semo,
Director, Office of Government Information Services.

[FR Doc. 2022-07536 Filed 4-7-22; 8:45 am]

BILLING CODE 7515-01-P